DEPARTMENT OF LABOR

Employment and Training Administration

[TA-W-60,703]

Thyssenkrupp Budd, EmploymentGiant LLC, Detroit, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 28, 2007, applicable to workers of Thyssenkrupp Budd, Detroit, Michigan. The notice was published in the Federal Register on March 14, 2007 (72 FR 11904).

At the request of the State agency, the Department reviewed the certification for workers of the subject firm. The workers were engaged in the production of automotive exterior body stampings and assemblies.

New information shows that Thyssenkrupp Budd contracted to have the workers' payroll managed through EmploymentGiant LLC, located in Warren, Michigan. Therefore, some of the workers separated from employment at the subject firm have had their wages reported under the Unemployment Insurance (UI) account for EmploymentGiant LLC.

Accordingly, the Department is amending this certification to include the workers of Thyssenkrupp Budd whose wages were reported as EmploymentGiant LLC.

The amended notice applicable to TA-W-60,703 is hereby issued as follows:

All workers of Thyssenkrupp Budd, EmploymentGiant LLC, Detroit, Michigan, who became totally or partially separated from employment on or after December 13, 2005 through February 28, 2009, are eligible to apply for adjustment assistance under Section 223 of the Trade Act of 1974, and are also eligible to apply for alternative trade adjustment assistance under Section 246 of the Trade Act of 1974.

Signed at Washington, DC, this 15th day of May, 2008.
Ricard Church,
Certifying Officer, Division of Trade Adjustment Assistance.

[FR Doc. E8-11368 Filed 5-20-08; 8:45 am]

BILLING CODE 4510-FN-P